DEPARTMENT OF LABOR

Employment and Training Administration

[TA-W-53,597]

Fashion Technologies, Gaffney, SC; Notice of Negative Determination on Reconsideration

On March 23, 2004, the Department issued an Affirmative Determination Regarding Application for Reconsideration for the workers and former workers of the subject firm. The notice was published in the Federal Register on April 5, 2004 (69 FR 17711).

The petition for the workers of Fashion Technologies, Gaffney, South Carolina was denied because the “contributed importantly” group eligibility requirement of section 222 of the Trade Act of 1974, as amended, was not met. The “contributed importantly” test is generally demonstrated through a survey of customers of the workers' firm. The survey revealed that none of the respondents increased their imports of engraved rotary screens.

In the request for reconsideration, the petitioner states that Fashion Technology, Gaffney, South Carolina worked very closely with companies (converters) that print fabric using engraved rotary screens produced by the subject firm. The petitioner believes that even though engraved rotary screens are not being imported by customers, they are used in the production of print fabric, and customers were shifting their fabric printing production abroad. The petitioner concludes that, because these print plants are being transferred abroad, the subject firm workers producing the engraved rotary screens are import impacted. The petitioner supplied a list of customers, alleging that these companies are now printing fabric abroad and an investigation of these additional customers would prove that the subject firm was eligible under secondary impact.

In order to establish import impact, the Department must consider imports that are like or directly competitive with those produced at the subject firm. The Department conducted a survey of the additional customers regarding their purchases of engraved rotary screens. The survey revealed no imports of engraved rotary screens during the relevant period.

The fact that subject firm's customers are shifting their production abroad may be relevant to this investigation if determining whether workers of the subject firm are eligible for trade adjustment assistance (TAA) based on the secondary upstream supplier impact. For certification on the basis of the workers' firm being a secondary upstream supplier, the subject firm must have customers that are TAA certified, and these TAA certified customers must represent a significant portion of subject firm's business. In addition, the subject firm would have to produce a component part of the product that was the basis for the customers' certification.

In this case, however, the subject firm does not act as an upstream supplier, because engraved rotary screens do not form a component part of the fabric. Furthermore, none of the customers provided by the petitioner are certified for TAA. Thus the subject firm workers are not eligible under secondary impact.

Conclusion

After review of the application and investigative findings, I conclude that there has been no error or misinterpretation of the law or of the facts which would justify reconsideration of the Department of Labor's prior decision. Accordingly, the application is denied.

Signed in Washington, DC this 13th day of April, 2004.
Elliott S. Kushner,
Certifying Officer, Division of Trade Adjustment Assistance Assistance.

[FR Doc. E4-1067 Filed 5-10-04; 8:45 am]

BILLING CODE 4510-13-P